DEPARTMENT OF TRANSPORTATION

Federal Aviation Administration

14 CFR Part 73

[Docket No. FAA-2009-0693; Airspace Docket No. 09-AAL-14]

RIN 2120-AA66

Proposed Amendment of Restricted Area R-2204 High and R-2204 Low; Oliktok Point, AK

AGENCY: Federal Aviation Administration (FAA), DOT.

ACTION: Notice of proposed rulemaking (NPRM).

SUMMARY: This action proposes to amend R-2204 High and R-2204 Low at Oliktok Point, AK, by increasing the authorized times of designation and extending the duration of the restricted areas beyond 2009, until they are no longer needed by the Department of Energy (DOE). The DOE is continuing their study of rapid climate changes occurring in the arctic. Continued access to R-2204 High and R-2204 Low at Oliktok, AK, is required for current moored balloon and future climate-related aviation activities.

DATES: Comments must be received on or before January 8, 2010.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2009-0693 and Airspace Docket No. 09-AAL-14 at the beginning of your comments. You may also submit comments through the Internet at http://www.regulations.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2009-0693 and Airspace Docket No. 09-AAL-14) and be submitted in triplicate to the Federal Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2009-0693 and Airspace Docket No. 09-AAL-14.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Federal Docket Management System office (see ADDRESSES section for address and phone number) between 9 a.m. and 5 p.m., Monday through Friday, except Federal holidays. An informal docket may also be examined during normal business hours at the office of the Western Service Center, Operations Support Group, Federal Aviation Administration, 1601 Lind Avenue, SW., Renton, WA 98055.

Persons interested in being placed on a mailing list for future NPRMs should contact the FAA's Office of Rulemaking, (202) 267-9677, for a copy of Advisory Circular No. 11-2A, Notice of Proposed Rulemaking Distribution System, which describes the application procedure.

Background

The DOE, Sandia National Laboratories, is conducting arctic climatology research on the North Slope of Alaska. Their Adjacent Arctic Ocean site is providing data about cloud and radiative processes at high latitudes. The arctic area has been identified as one of the most sensitive regions to climate change. In 2004, the need to operate an unlighted moored balloon in clouds resulted in the establishment of R-2204 at Oliktok Point. That site was selected because of its proximity to the Arctic Ocean, availability of ground infrastructure to support the scientists, and remoteness that lessens the impacts to other instrument flight rules and visual flight rules air traffic.

In addition to the current moored balloon activities, scientists are interested in testing the use of unmanned aircraft (UAS) over the coastal waters (in clouds) of the Arctic Ocean and propose to launch and recover UAS aircraft at the Oliktok station. A Certificate of Approval for flight outside of R-2204 would be required by the FAA for UAS operations not contained within R-2204. The DOE has stated that they are anticipating the development of Letters of Agreement with other aircraft operators using airspace in the vicinity of Oliktok to ensure that access to airspace within R-2204 is available within the parameters agreed upon by the parties involved.

On May 28, 2004, the FAA published in the Federal Register a final rule to establish Restricted Area R-2204 (69 FR 30576). The rule stated that the “area [would] be activated starting October 2004 for approximately 30 days a year, and be effective through the year 2009.” On April 21, 2008, the FAA published in the Federal Register a final rule to amend R-2204 by changing the using agency and subdividing the area to create R-2204 High and R-2204 Low (73 FR 21246).

The Proposal

The FAA is proposing an amendment to Title 14 Code of Federal Regulations (14 CFR) part 73 to amend the time of designation to allow activation of R-2204 High and R-2204 Low by NOTAM 24 hours in advance for up to 75 days per year. Special Use Airspace R-2204 High and R-2204 Low would continue to be designated until it is no longer required by the DOE to conduct research.

Section 73.22 of Title 14 CFR part 73 was republished in FAA Order 7400.8R, effective February 16, 2009.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it proposes to amend times of designation for restricted area airspace at Oliktok Point, Alaska.

Environmental Review

This proposal will be subject to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73-SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. § 73.22 is amended as follows:

* * * * *

R-2204 High, Oliktok Point, AK [Amended]

Under Time of Designation, remove the words “By NOTAM, 24 hours in advance, not to exceed 30 days annually” and insert Time of designation. By NOTAM, 24 hours in advance, not to exceed 75 days per year.

* * * * *

R-2204 Low, Oliktok Point, AK [Amended]

Under Time of Designation, remove the words “By NOTAM, 24 hours in advance, not to exceed 30 days annually” and insert Time of designation. By NOTAM, 24 hours in advance, not to exceed 75 days per year.

* * * * *

Issued in Washington, DC, on November 12, 2009.
Edith V. Parish,
Manager, Airspace and Rules Group.

[FR Doc. E9-28194 Filed 11-23-09; 8:45 am]

BILLING CODE 4910-13-P